ENVIRONMENTAL PROTECTION AGENCY

40 CFR Part 52

[IL171-1b; FRL-6536-2]

Approval and Promulgation of State Implementation Plan; Illinois

AGENCY: United States Environmental Protection Agency (USEPA).

ACTION: Proposed rule.

SUMMARY: The USEPA is proposing to approve the incorporation of revised air pollution permitting and emissions standards rules into the Illinois State Implementation Plan. The State submitted its plan request to USEPA on February 5, 1998.

DATES: USEPA must receive written comments on or before March 20, 2000.

ADDRESSES: You should mail written comments to: J. Elmer Bortzer, Chief, Regulation Development Section, Air Programs Branch (AR-18J), Environmental Protection Agency, Region 5, 77 West Jackson Boulevard, Chicago, Illinois 60604. Copies of the plan and USEPA's analysis are available for inspection at the U.S. Environmental Protection Agency, Region 5, Air and Radiation Division, 77 West Jackson Boulevard, Chicago, Illinois 60604. (Please telephone John Kelly at (312) 886-4882 before visiting the Region 5 Office.)

Copies of the plan are also available for inspection at the Illinois Environmental Protection Agency, Division of Air Pollution Control, 1021 North Grand Avenue East, Springfield, Illinois 62707-60015.

FOR FURTHER INFORMATION CONTACT: John Kelly, Environmental Scientist, Permits and Grants Section, Air Programs Branch (AR-18J), USEPA, Region 5, Chicago, Illinois 60604, (312) 886-4882.

SUPPLEMENTARY INFORMATION: Throughout this document whenever “we,” “us,” or “our” are used we mean USEPA.

Table of Contents

I. What action is USEPA taking today?

II. Where can I find more information about this proposal and the corresponding direct final rule?

I. What Action is USEPA Taking Today?

The USEPA is proposing to approve the incorporation into the Illinois State Implementation Plan of revised air pollution permitting and emissions standards rules, which the State of Illinois requested. Specifically, we are proposing to approve the incorporation of revisions to Title 35 of the Illinois Administrative Code (35 IAC) 201.146, Exemptions from State Permit Requirements into the Illinois State Implementation Plan. These revisions clarify, modify and add to the list of emission units and activities which are exempt from State permitting requirements. The State submitted its plan request to USEPA on February 5, 1998.

II. Where Can I Find More Information About This Proposal and the Corresponding Direct Final Rule?

In the final rules section of this Federal Register, we are approving Illinois' request for a change to the Illinois State Implementation Plan as a direct final rule without prior proposal because we view this action as noncontroversial and anticipate no adverse comments. A detailed rationale for approving the State's request is set forth in the direct final rule. The direct final rule will become effective without further notice unless we receive relevant adverse written comment on this action. Should we receive such comment, we will publish a final rule informing you that the direct final rule will not take effect and such public comment received will be addressed in a subsequent final rule based on this proposed rule. If no adverse written comments are received, the direct final rule will take effect on the date stated in that document and no further activity will be taken on this proposed rule. We do not plan to institute a second comment period on this action. Any parties interested in commenting on this action should do so at this time.

For additional information see the direct final rule published in the final rules section of this Federal Register.

Dated: February 4, 2000.
Francis X. Lyons,
Regional Administrator, Region 5.

[FR Doc. 00-3673 Filed 2-16-00; 8:45 am]

BILLING CODE 6560-50-P